DEPARTMENT OF ENERGY

Federal Energy Regulatory Commission

[Docket No. RM12-3-000]

Revisions to Electric Quarterly Report Filing Process; Notice of Deactivation of Sandbox Electronic Test Site

On September 13, 2013, the Commission issued a notice in this proceeding extending the availability of the Sandbox Electronic Test Site (ETS) until further notice. Take notice that the ETS will be deactivated on April 13, 2017.

Order No. 770 ¹ revised the process for making EQR filings. The ETS was made available to filers prior to the implementation of the revised process. Although the ETS will no longer be available after April 13, 2017, the Test-Only functionality in the filing system will continue to be available for filers to test their Electric Quarterly Reports (EQR) prior to submitting them to the Commission.

¹ Revisions to Electric Quarterly Report Filing Process, Order No. 770, FERC Stats. & Regs. ¶ 31,338 (2012).

Dated: April 12, 2017.
Kimberly D. Bose,
Secretary.

[FR Doc. 2017-08000 Filed 4-19-17; 8:45 am]

BILLING CODE 6717-01-P